DEPARTMENT OF THE INTERIOR

Fish and Wildlife Service

Notice of Intent To Prepare a Comprehensive Conservation Plan and Environmental Assessment for Sacramento, Delevan, Colusa and Sutter National Wildlife Refuges, Glenn, Colusa, and Sutter Counties, CA

AGENCY: U.S. Fish and Wildlife Service, Department of the Interior.

ACTION: Notice of intent.

SUMMARY: The U.S. Fish and Wildlife Service (Service) is preparing a Comprehensive Conservation Plan (CCP) and Environmental Assessment (EA) document for Sacramento, Delevan, Colusa, and Sutter National Wildlife Refuges (NWRs) which are part of the Sacramento NWR Complex (NWRC). This notice advises the public that the Service intends to gather information necessary to prepare a CCP and an EA pursuant to the National Wildlife Refuge System Administration Act of 1966, as amended, and the National Environmental Policy Act (NEPA). The public is invited to participate in the planning process. The Service is furnishing this notice in compliance with the Service's CCP policy to:

1. Advise other agencies and the public of our intentions;

2. Obtain suggestions and information on the scope of issues to include in the environmental documents; and

The Service will solicit information from the public via open houses, meetings, and written comments. Special mailings, newspaper articles, and announcements will provide information regarding opportunities for public involvement in the planning process.

DATES: Please provide written comments to the address below by September 1, 2005.

ADDRESSES: Address comments, questions, and requests for further information to: Jackie Ferrier, Refuge Planner, Sacramento National Wildlife Refuge Complex, 752 County Road 99 W, Willows, California 95988. You may find additional information concerning the refuges at the Sacramento NWRC Internet site http://www.sacramentovalleyrefuges@fws.gov.

FOR FURTHER INFORMATION CONTACT: Jackie Ferrier, Refuge Planner, Sacramento National Wildlife Refuge Complex, 752 County Road 99 W, Willows, California 95988; telephone (530) 934-2801; fax (530) 934-7814.

SUPPLEMENTARY INFORMATION: By Federal law (National Wildlife Refuge System Administration Act of 1966, as amended by the National Wildlife Refuge System Improvement Act of 1997 (Administration Act) (16 U.S.C. 668dd-668ee)), the Service is to manage all lands within the National Wildlife Refuge System in accordance with an approved comprehensive conservation plan. The plan guides management decisions and identifies refuge goals, long-range objectives, and strategies for achieving refuge purposes. The planning process will consider many elements, including wildlife and habitat management, public recreational activities, and cultural resource protection. Public input into the planning process is essential.

The CCP will provide other agencies and the public with information regarding the future desired conditions for the refuges and how the Service will implement management strategies. The Service will prepare an EA in accordance with procedures for implementing the National Environmental Policy Act of 1969 (42 U.S.C. 4321-4370d).

Sacramento NWRC consists of five NWRs and three wildlife management areas. This CCP will include Sacramento, Delevan, Colusa, and Sutter NWRs. The NWRC provides more than 24,000 acres of wetland and upland habitat critical to flyway and continental waterfowl populations. About forty percent of Pacific Flyway waterfowl populations winter in the Sacramento Valley. The vast majority of wetlands in the Sacramento Valley have been converted to agricultural, industrial, and urban development. Remaining wetlands are intensively managed to optimize wildlife benefits.

Comments received will be used to help identify key issues and to develop Refuge goals, habitat management and visitor services strategies. Additional opportunities for public participation will occur throughout the planning process, which is expected to be completed in 2008. Data collection has been initiated to create computerized mapping, including vegetation, topography, habitat types and existing land uses. The outcome of this planning process will be a CCP to guide refuge management for the next 15 years. We have estimated that a draft CCP and EA will be made available for public review in 2007.

Dated: July 12, 2005.
Ken McDermond,
Acting Manager, California/Nevada Operations Office, Sacramento, CA.

[FR Doc. 05-14046 Filed 7-15-05; 8:45 am]

BILLING CODE 4310-55-P